DEPARTMENT OF ENERGY

Agency Information Collection Activities: Proposed Collection; Comment Request

AGENCY: Office of Electricity Delivery and Energy Reliability (OE), U.S. Department of Energy (DOE).

ACTION: Agency information collection activities: proposed collection; comment request.

SUMMARY: The Office of Electricity Delivery and Energy Reliability is soliciting comments on the proposed revisions and three-year extension to the OE-417 “Electric Emergency Incident and Disturbance Report.”

DATES: Comments must be filed August 19, 2011. If you anticipate difficulty in submitting comments within that period, contact the person listed in Addresses as soon as possible.

ADDRESSES: Send comments to Brian Copeland. To ensure receipt of the comments by the due date submission by e-mail: Brian.Copeland@hq.doe.gov or by Fax 202-586-2623 is recommended. The mailing address is Office of Electricity Delivery and Energy Reliability (Attn: Comments on OE-417 Electric Emergency Incident and Disturbance Report), OE-30, Forrestal Building, U.S. Department of Energy, Washington, DC 20585. Alternatively, Brian Copeland may be contacted by telephone at 202-586-1178.

FOR FURTHER INFORMATION CONTACT: Requests for additional information should be directed to Brian Copeland using the contact information listed above.

SUPPLEMENTARY INFORMATION: This information collection request contains:

I. Background

II. Current Actions

III. Request for Comments

I. Background

The Federal Energy Administration Act of 1974 (Pub. L. 93-275, 15 U.S.C. 761 et seq.) and the DOE Organization Act (Pub. L. 95-91, 42 U.S.C. 7101 et seq.) require the DOE to carry out a centralized, comprehensive, and unified energy information program. This program collects, evaluates, assembles, analyzes, and disseminates information on energy resource reserves, production, demand, technology, and related economic and statistical information. This information is used to assess the adequacy of energy resources to meet near and longer term domestic demands.

The Office of Electricity Delivery and Energy Reliability (OE), as part of its effort to comply with the Paperwork Reduction Act of 1995 (Pub. L. 104-13, 44 U.S.C. Chapter 35), provides the general public and other Federal agencies with opportunities to comment on collections of energy information conducted by OE. Any comments received help the DOE to prepare data requests that maximize the utility of the information collected, and to assess the impact of collection requirements on the public. Also, the DOE will later seek approval of this collection of information by the Office of Management and Budget (OMB) under section 3507(a) of the Paperwork Reduction Act of 1995.

The DOE collects information on the generation, distribution, and transmission of electric energy. The DOE collects information on emergency situations in electric energy supply systems so that appropriate Federal emergency response measures can be implemented in a timely and effective manner.

The purpose of this notice is to seek public comment on the revised Form OE-417, “Emergency Incident and Disturbance Report,” used to report electric emergency incidents and disturbances to the DOE. The Form OE- 417 reports will enable the DOE to monitor electric emergency incidents and disturbances in the United States (including all 50 States, the District of Columbia, Puerto Rico, U.S. Virgin Islands, and the U.S. Trust Territories) so that the Government may help prevent the physical or virtual disruption of the operation of any critical infrastructure.

Currently, OE uses Form OE-417 to monitor major system incidents on electric power systems and to conduct after-action investigations on significant interruptions of electric power. The information is used to meet DOE national security responsibilities and requirements as set forth in the U.S. Department of Homeland Security's National Response Framework. The information may also be used in developing legislative recommendations/reports to Congress and coordinating Federal efforts regarding activities such as incidents/disturbances in critical infrastructure protection, continuity of electric industry operations, and continuity of operations. The information submitted may also be used by OE to analyze significant interruptions of electric power.

II. Current Actions

OE is considering changing the wording for criteria #1, 2, 9, & 10 to better capture the type of physical and cyber events that would need to be reported. The updated language would be:

Criterion #1—Physical attack that causes major interruptions or impacts to critical infrastructure facilities or to operations;

Criterion #2—Cyber event that causes interruptions of electrical system operations;

Criterion #9—Physical attack that could potentially impact electric power system adequacy or reliability; or vandalism which targets components of any security systems;

Criterion #10—Cyber event that could potentially impact electric power system adequacy or reliability.

The Final Reporting deadline is proposed to be extended from 48 hours to 72 hours. In Lines 5 and 6, “Date/Time Incident Began” and “Date/Time Incident Ended” the inclusion of Time Zone check boxes is being considered. OE is also considering deleting Line 10 “Internal Organizational Tracking Number.”

In the renumbered Lines 10, 11, and 12 (the numbering has changed due to the deletion of the old Line 10) the “Type of Emergency,” “Causes of Incident,” and “Actions Taken” a comments box to provide additional information for each of those lines is being considered for inclusion. This line would be entitled “Additional Information/Comments” and would be an open space in which respondents can give further explanation for each of the categories specified in Lines 10, 11, and 12. The information included in the “Additional Information/Comments” boxes would be in Schedule 1 and therefore be public information and be different from the information included in the “Narrative” in Schedule 2 which is Protected. In Line 11, “Cause of Incident”, the check box labeled “Actual or Suspected Attack” would be changed to “Actual or Suspected Attack/Event” and underneath it “Cyber/Computer/Telecom” would be changed to “Cyber”. In Line 12 “Actions Taken,” an additional checkbox entitled “Mitigation(s) Implemented” would be added as well.

OE has instituted an online filing option where respondents can file the form on OE's Web site. While the online form is now considered the preferred method of notification, respondents can still submit forms through e-mail, fax and telephone to the DOE Emergency Operations Center (EOC). The EOC operates 24 hours daily, 7 days a week.

OE is considering improving its online filing capabilities to allow respondents to sign-on to a secure Web site in order to submit their forms. This secure Web site would allow respondents to review, download, and update past submissions. The Web site would also allow respondents to e-mail the submitted forms to entities such as the North American Electric Reliability Corporation (NERC).

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information, taking into account its accuracy, adequacy, reliability, timeliness, and the agency's ability to process the information it collects.

B. What enhancements can be made to the quality, utility, and clarity of the information to be collected and disseminated?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 10 minutes for the Emergency Incident Report (Schedule 1, Part A) that is to be filed within 1 hour; the overall public reporting burden for the form is estimated at 2 hours to cover any detailed reporting in the Normal/Update Report (Schedule 1, Part B and Schedule 2) which is filed later (up to 72 hours), if required. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Please refer to http://www.oe.netl.doe.gov/oe417.aspx for copies of the the proposed forms as well as mock-ups of the proposed Web site for online submissions. Refer to the proposed Instructions, also available on this site, about the purpose, who must report, when to report, where to submit, the elements to be reported, detailed instructions, provisions for confidentiality, and uses (including possible nonstatistical uses) of the information. For instructions on obtaining materials, see the FOR FURTHER INFORMATION CONTACT section.

Comments submitted in response to this notice will be summarized and/or included in the request for OMB approval of the collection of the information on refinery disruptions and incidents. They also will become a matter of public record.

SUPPLEMENTARY INFORMATION: This information collection request contains: (1) OMB No. 1901-0288; (2) Information Collection Request Title: Electric Emergency Incident and Disturbance Report; (3) Type of Review: Renewal; (4) Purpose: Form OE-417 collects information on electric emergency incidents and disturbances for DOE's use in fulfilling its overall national security and other energy management responsibilities. The information will also be used by DOE for analytical purposes; (5) Annual Estimated Number of Respondents: 3,269; (6) Annual Estimated Number of Total Responses: 300; (7) Annual Estimated Number of Burden Hours: 3,919; and (8) Annual Estimated Reporting and Recordkeeping Cost Burden: 0.

Statutory Authority: Section 13 of the Federal Energy Administration Act of 1974, codified at 15 U.S.C. 772.

Issued in Washington, DC on June 3, 2011.
Patricia A. Hoffman,
Assistant Secretary of Energy, Office of Electricity Delivery and Energy Reliability.

[FR Doc. 2011-15279 Filed 6-17-11; 8:45 am]

BILLING CODE 6450-01-P